DEPARTMENT OF TRANSPORTATION

Federal Aviation Administration

14 CFR Part 39

[Docket No. FAA-2012-0725; Directorate Identifier 2011-NM-207-AD; Amendment 39-17343; AD 2013-03-08]

RIN 2120-AA64

Airworthiness Directives; Bombardier, Inc. Airplanes

AGENCY: Federal Aviation Administration (FAA), Department of Transportation (DOT).

ACTION: Final rule.

SUMMARY: We are adopting a new airworthiness directive (AD) for certain Bombardier, Inc. Model CL-600-1A11 (CL-600), CL-600-2A12 (CL-601), and CL-600-2B16 (CL-601-3A, CL-601-3R, & CL-604 Variants) airplanes. This AD was prompted by reports of cracking found on the upper and lower Web of the engine support beam. This AD requires revising the maintenance program. We are issuing this AD to detect and correct fatigue cracking of the engine support beam, which could result in failure of the engine support beam and affect the structural integrity of the airplane.

DATES: This AD becomes effective March 19, 2013.

The Director of the Federal Register approved the incorporation by reference of certain publications listed in this AD as of March 19, 2013.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Stephen Kowalski, Aerospace Engineer, Airframe and Mechanical Systems Branch, ANE-171, FAA, New York Aircraft Certification Office, 1600 Stewart Avenue, Suite 410, Westbury, New York 11590; telephone (516) 228-7327; fax (516) 794-5531.

SUPPLEMENTARY INFORMATION:

Discussion

We issued a notice of proposed rulemaking (NPRM) to amend 14 CFR part 39 to include an AD that would apply to the specified products. That NPRM was published in the Federal Register on July 31, 2012 (77 FR 45288). That NPRM proposed to correct an unsafe condition for the specified products. The Mandatory Continuing Airworthiness Information (MCAI) states:

Cracks on the upper and lower Web of the Engine Support Beam (ESB) have been discovered on two (2) Challenger aeroplanes in service. Failure of the ESB could adversely affect the structural integrity of the aeroplane.

A Temporary Revision (TR) has been made to the Time Limits/Maintenance Checks (TLMC) manual to introduce a new Airworthiness Limitations (AWL) task to ensure that fatigue cracking of the ESB is detected and corrected.

This [Canadian] directive mandates the incorporation of the new AWL task.

You may obtain further information by examining the MCAI in the AD docket.

Comments

We gave the public the opportunity to participate in developing this AD. We received no comments on the NPRM (77 FR 45288, July 31, 2012) or on the determination of the cost to the public.

Conclusion

We reviewed the available data and determined that air safety and the public interest require adopting the AD as proposed—except for minor editorial changes. We have determined that these minor changes:

• Are consistent with the intent that was proposed in the NPRM (77 FR 45288, July 31, 2012) for correcting the unsafe condition; and

• Do not add any additional burden upon the public than was already proposed in the NPRM (77 FR 45288, July 31, 2012).

Costs of Compliance

We estimate that this AD will affect 111 products of U.S. registry. We also estimate that it will take about 1 work-hour per product to comply with the basic requirements of this AD. The average labor rate is $85 per work-hour. Based on these figures, we estimate the cost of this AD to the U.S. operators to be $9,435, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 45288, July 31, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-03-08 Bombardier, Inc.: Amendment 39-17343. Docket No. FAA-2012-0725; Directorate Identifier 2011-NM-207-AD.

(a) Effective Date

This airworthiness directive (AD) becomes effective March 19, 2013.

(b) Affected ADs

None.

(c) Applicability

(1) This AD applies to the airplane models specified in paragraphs (c)(1)(i), (c)(1)(ii), (c)(1)(iii), and (c)(1)(iv) of this AD, certificated in any category.

(i) Bombardier, Inc. Model CL-600-1A11 (CL-600), serial numbers 1004 through 1085 inclusive.

(ii) Bombardier, Inc. Model CL-600-2A12 (CL-601), serial numbers 3001 through 3066 inclusive.

(iii) Bombardier, Inc. Model CL-600-2B16 (CL-601-3A and CL-601-3R Variants), serial numbers 5001 through 5194 inclusive.

(iv) Bombardier, Inc. Model CL-600-2B16 (CL-604 Variants), serial numbers 5301 through 5665 inclusive, and 5701 and subsequent.

(2) This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (j) of this AD. The request should include a description of changes to the required inspections that will ensure the continued damage tolerance of the affected structure. The FAA has provided guidance for this determination in FAA Advisory Circular (AC) 25.1529-1A, dated November 20, 2007 (http://rgl/Regulatory_and_Guidance_Library/rgAdvisoryCircular.nsf/0/E4111B5537E0B345862573B0006FA23B?OpenDocument).

(d) Subject

Air Transport Association (ATA) of America Code 05, Periodic Inspections.

(e) Reason

This AD was prompted by reports of cracking found on the upper and lower Web of the engine support beam. We are issuing this AD to detect and correct fatigue cracking of the engine support beam, which could result in failure of the engine support beam and affect the structural integrity of the airplane.

(f) Compliance

You are responsible for having the actions required by this AD performed within the compliance times specified, unless the actions have already been done.

(g) Time Limits/Maintenance Checks (TLMC) Manual Revision

Within 60 days after the effective date of this AD, revise the maintenance program to incorporate the applicable information specified in paragraphs (g)(1) through (g)(4) of this AD.

Note 1 to paragraph (g) of this AD: The maintenance program revision required by paragraph (g) of this AD may be done by inserting a copy of Bombardier Temporary Revision (TR) 5-151, TR 5-250, TR 5-261, and TR 5-2-47 or TR 5-2-9, all dated May 31, 2011, into the applicable TLMC manual. When the applicable TR has been included in general revisions of the TLMC manual, the general revisions may be inserted in the TLMC manual, provided the relevant information in the general revision is identical to that in the applicable TR specified in paragraphs (g)(1) through (g)(4) of this AD.

(1) For Model CL-600-1A11 (CL-600) airplanes: Task 53-10-00-198, Torque Box, specified in Canadair Challenger TR 5-151, dated May 31, 2011, to the Canadair Challenger TLMC Manual, PSP 605.

(2) For Model CL-600-2A12 (CL-601 Variant) airplanes: Task 53-10-00-198, Engine Support Beam, specified in Canadair Challenger TR 5-250, dated May 31, 2011, to the Canadair Challenger TLMC Manual, PSP 601-5.

(3) For Model CL-600-2B16 (CL-601-3A and CL-601-3B Variant) airplanes: Task 53-10-00-198, Engine Support Beam, specified in Canadair Challenger TR 5-261, dated May 31, 2011, to the Canadair Challenger TLMC Manual, PSP 601A-5.

(4) For Model CL-600-2B16 (CL-604 Variant) airplanes: Task 53-30-00-155, Detailed Inspection of the Engine Support Beam, specified in Bombardier Challenger 604 TR 5-2-47, dated May 31, 2011, to the Bombardier Challenger 604 TLMC Manual; or Task 53-30-00-155, Detailed Inspection of the Engine Support Beam, specified in Bombardier Challenger 605 TR 5-2-9, dated May 31, 2011, to the Bombardier Challenger 605 TLMC Manual.

(h) Initial Compliance Times for Inspections

The initial compliance time for the inspections specified in the temporary revisions specified in paragraphs (g)(1) through (g)(4) of this AD is before the accumulation of 7,800 total flight cycles, or within 12 months after the effective date of this AD, whichever occurs later.

(i) No Alternative Actions or Intervals

After accomplishing the revision required by paragraph (g) of this AD, no alternative actions (e.g., inspections) or intervals may be used unless the actions or intervals are approved as an alternative method of compliance (AMOC) in accordance with the procedures specified in paragraph (j) of this AD.

(j) Other FAA AD Provisions

The following provisions also apply to this AD:

(1) Alternative Methods of Compliance (AMOCs): The Manager, New York Aircraft Certification Office, ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, New York 11590; telephone 516-228-7300; fax 516-794-5531. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

Refer to MCAI Canadian Airworthiness Directive CF-2011-33, dated August 16, 2011, and the temporary revisions specified in paragraphs (g)(1) through (g)(4) of this AD, for related information.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Canadair Challenger Temporary Revision 5-151, dated May 31, 2011, to the Canadair Challenger Time Limits/Maintenance Checks Manual, PSP 605.

(ii) Canadair Challenger Temporary Revision 5-250, dated May 31, 2011, to the Canadair Challenger Time Limits/Maintenance Checks Manual, PSP 601-5.

(iii) Canadair Challenger Temporary Revision 5-261, dated May 31, 2011, to the Canadair Challenger Time Limits/Maintenance Checks Manual, PSP 601A-5.

(iv) Bombardier Challenger 604 Temporary Revision 5-2-47, dated May 31, 2011, to the Bombardier Challenger 604 Time Limits/Maintenance Checks Manual.

(v) Bombardier Challenger 605 Temporary Revision 5-2-9, dated May 31, 2011, to the Bombardier Challenger 605 Time Limits/Maintenance Checks Manual.

(3) For service information identified in this AD, contact Bombardier, Inc., 400 Côte-Vertu Road West, Dorval, Québec H4S 1Y9, Canada; telephone 514-855-5000; fax 514-855-7401; email thd.crj@aero.bombardier.com; Internet http://www.bombardier.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on January 30, 2013.
Ali Bahrami,
Manager, Transport Airplane Directorate, Aircraft Certification Service.

[FR Doc. 2013-02724 Filed 2-11-13; 8:45 am]

BILLING CODE 4910-13-P